DEPARTMENT OF COMMERCE

Bureau of Industry and Security

15 CFR Part 744

[Docket No. 250108-0010]

RIN 0694-AJ76

Addition of Entities to and Revision of Entry on the Entity List

AGENCY: Bureau of Industry and Security, Department of Commerce.

ACTION: Final rule.

SUMMARY: In this rule, the Bureau of Industry and Security (BIS) amends the Export Administration Regulations (EAR) by adding 11 entities under 11 entries to the Entity List. These entries are listed on the Entity List under the destination of China, People's Republic of (China) (11). These entities have been determined by the U.S. Government to be acting contrary to the national security and/or foreign policy interests of the United States. This rule also revises one existing entry on the Entity List under the destination of India.

DATES: This rule is effective January 16, 2025.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, have been involved, are involved, or pose a significant risk of being or becoming involved in activities contrary to the national security or foreign policy interests of the United States, pursuant to § 744.11(b) of the EAR. The EAR imposes additional license requirements on and limits the availability of most license exceptions for exports, reexports, and transfers (in-country) when a listed entity is a party to the transaction. The license review policy for each listed entity is identified in the “License Review Policy” column on the Entity List, and the impact on the availability of license exceptions is described in the relevant Federal Register document that added the entity to the Entity List. BIS places entities on the Entity List pursuant to part 744 (Control Policy: End-User and End-Use Based) and part 746 (Embargoes and Other Special Controls) of the EAR.

The End-User Review Committee (ERC), composed of representatives of the Departments of Commerce (Chair), State, Defense, Energy, and, where appropriate, the Treasury, makes all decisions regarding additions to, removals from, or other modifications to the Entity List. The ERC makes all decisions to add an entry to the Entity List by majority vote and makes all decisions to remove or modify an entry by unanimous vote.

Additions to the Entity List

The ERC determined to add Beijing Zhipu Huazhang Technology Co., Ltd.; Beijing Lingxin Intelligent Technology Co., Ltd.; Beijing Yuanyin Intelligent Technology Co., Ltd.; Beijing Zhipu Future Technology Co., Ltd.; Beijing Zhipu Linghang Technology Co., Ltd.; Beijing Zhipu Qingyan Technology Co., Ltd.; Hangzhou Zhipu Huazhang Technology Co., Ltd.; Nanjing Zhihu Information Technology Co., Ltd.; Shanghai Zhipu Huanyu Technology Co., Ltd.; and Shenzhen Zhipu Future Technology Co., Ltd., to the Entity List, under the destination of China. These additions are being made because these entities advance the People's Republic of China's military modernization through the development and integration of advanced artificial intelligence research. This activity is contrary to the national security and foreign policy interests of the United States under Section 744.11 of the EAR. A license is required for all items subject to the EAR, with a license review policy of a presumption of denial.

The ERC determined to add Beijing Keyi Hongyuan Optoelectronics Co., Ltd. to the Entity List, under the destination of China. Specifically, this entity is co-developing lithography technology for advanced-node fabrication facilities in China. This technology will enable indigenous production in China of advanced integrated circuits for military end-use. This activity is contrary to the national security and foreign policy interests of the United States under § 744.11 of the EAR. A license is required for all items subject to the EAR, with a license review policy of a presumption of denial.

For the reasons described above, this final rule adds the following 11 entities under 11 entries to the Entity List and includes, where appropriate, aliases:

China

• Beijing Keyi Hongyuan Optoelectronics Co., Ltd.,

• Beijing Lingxin Intelligent Technology Co., Ltd.,

• Beijing Yuanyin Intelligent Technology Co., Ltd.,

• Beijing Zhipu Future Technology Co., Ltd.,

• Beijing Zhipu Huazhang Technology Co., Ltd.,

• Beijing Zhipu Linghang Technology Co., Ltd.,

• Beijing Zhipu Qingyan Technology Co., Ltd.,

• Hangzhou Zhipu Huazhang Technology Co., Ltd.,

• Nanjing Zhihu Information Technology Co., Ltd.,

• Shanghai Zhipu Huanyu Technology Co., Ltd., and

• Shenzhen Zhipu Future Technology Co., Ltd.

Modifications to the Entity List

The ERC determined to modify one existing entry on the Entity List, “The following Department of Atomic Energy entities” under the destination of India. Specifically, the ERC determined to remove the three entities listed within the entry (“Indian Rare Earths,” “Indira Gandhi Atomic Research Center (IGCAR),” and “Bhabha Atomic Research Center (BARC)”) but continue to list the relevant facilities (Nuclear reactors (including power plants) not under International Atomic Energy Agency (IAEA) safeguards, (excluding Kundankulam 1 and 2); fuel reprocessing and enrichment facilities; and heavy water production facilities and their collocated ammonia plants) in the entry.

The ERC determined to remove three entities from the entry based on information received pursuant to § 744.16(e) of the EAR and the review that the ERC conducted in accordance with the procedures described in supplement no. 5 to part 744 of the EAR. Modifying the Department of Atomic Energy entry to remove Indian Rare Earths, IGCAR, and BARC will support U.S. foreign policy objectives by reducing barriers to advance energy cooperation, including joint research and development and science and technology cooperation, towards shared energy security needs and goals. It will also enable closer cooperation between the United States and India to secure more resilient critical minerals and clean energy supply chains, following through on a leader-level commitment to hasten bilateral collaboration at a time when these supply chains have grown increasingly fragile. The United States and India share a commitment to advance peaceful nuclear cooperation and associated research and development activities, with strengthened science and technology cooperation over the past several years which has benefitted both countries and their partner countries around the world. The removal of the three entities from the entry aligns with and supports the overall ambition and strategic direction of the U.S.-India partnership.

Prior to their removal, a license was required for all items subject to the EAR to these three entities regardless of the item's end use. With the removal of BARC, IGCAR, and India Rare Earths from the entry on the Entity List, a license is no longer required for exports to these three entities unless the end use is listed in § 744.2 of the EAR. Section 744.2 of the EAR prohibits exports, reexports, and transfers (in-country) of items subject to the EAR to defined nuclear proliferation activities, to any destination, other than countries in supplement no.3 to part 744. As India is not listed in supplement no.3 to part 744, exporters, re-exporters and transferors (in-country) are reminded that they are required to seek a license if they know or have reason to know that the exported item(s) will be used in any of the activities listed in § 744.2 of the EAR for all end-users in India, regardless of whether they are listed on the Entity List or not.

India has openly tested nuclear weapons and openly declared that it possesses nuclear weapons. India has publicized its nuclear energy and nuclear fuel-cycle plans. Information on India's nuclear activities is readily available from a variety of reputable sources. Furthermore, India has publicized the list of civil nuclear facilities that are subject to IAEA safeguards. This list is available on the IAEA website as INFCIRC/754. Exporters should seek guidance from BIS if they are unsure if the exported item(s) will be used in nuclear explosive activities and/or unsafeguarded nuclear activities.

Savings Clause

For the changes being made in this final rule, shipments of items removed from eligibility for a License Exception or export, reexport, or transfer (in-country) without a license (NLR) as a result of this regulatory action that were en route aboard a carrier to a port of export, reexport, or transfer (in-country), on January 16, 2025, pursuant to actual orders for export, reexport, or transfer (in-country) to or within a foreign destination, may proceed to that destination under the previous eligibility for a License Exception or export, reexport, or transfer (in-country) without a license (NLR) before February 18, 2025. Any such items not actually exported, reexported, or transferred (in-country) before midnight, on February 18, 2025, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule. In particular, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, establishing and maintaining a list of foreign persons and end uses that are determined to be a threat to the national security and foreign policy of the United States pursuant to the policy set forth in Section 1752(2)(A), and restricting exports, reexports, and in-country transfers of any controlled items to any foreign person or end-use so listed; apprising the public of changes in policy, regulations, and procedures; and any other action necessary to carry out ECRA that is not otherwise prohibited by law. Pursuant to Section 1762(a) of ECRA (50 U.S.C. 4821(a)), these changes can be imposed in a final rule without prior notice and comment.

Rulemaking Requirements

1. This rule has been determined to be not significant for purposes of Executive Order 12866.

2. Notwithstanding any other provision of law, no person is required to respond to or be subject to a penalty for failure to comply with a collection of information, subject to the requirements of the Paperwork Reduction Act of 1995 (PRA) (44 U.S.C. 3501 et seq.), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at: https://www.reginfo.gov/public/do/PRAMain.

3. This rule does not contain policies with federalism implications as that term is defined in Executive Order 13132.

4. Pursuant to Section 1762 of the Export Control Reform Act of 2018, this action is exempt from the Administrative Procedure Act (5 U.S.C. 553) requirements for notice of proposed rulemaking, opportunity for public participation, and delay in effective date. While Section 1762 of ECRA provides sufficient authority for such an exemption, this action is also independently exempt from these APA requirements because it involves a military or foreign affairs function of the United States (5 U.S.C. 553(a)(1)).

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—CONTROL POLICY: END-USER AND END-USE BASED

1. The authority citation for part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 18, 2024, 89 FR 77011 (September 20, 2024); Notice of November 7, 2024, 89 FR 88867 (November 8, 2024).

2. Supplement no. 4 to part 744 is amended by:

a. Under CHINA, PEOPLE'S REPUBLIC OF, by adding, in alphabetical order, entries for “Beijing Keyi Hongyuan Optoelectronics Co., Ltd.;” “Beijing Lingxin Intelligent Technology Co., Ltd.;” “Beijing Yuanyin Intelligent Technology Co., Ltd.,” “Beijing Zhipu Future Technology Co., Ltd.,” “Beijing Zhipu Huazhang Technology Co., Ltd.,” “Beijing Zhipu Linghang Technology Co., Ltd.,” “Beijing Zhipu Qingyan Technology Co., Ltd.,” “Hangzhou Zhipu Huazhang Technology Co., Ltd.,” “Nanjing Zhihu Information Technology Co., Ltd.,” “Shanghai Zhipu Huanyu Technology Co., Ltd.,” and “Shenzhen Zhipu Future Technology Co., Ltd.,” and

b. Under India, revising the entry for “The following Department of Atomic Energy entities.”

The additions and modification read as follows:

Supplement No. 4 to Part 744—Entity List

* * * * *

Country | Entity | License requirement | License review policy | Federal Register citation
* * * * * * *
CHINA, PEOPLE'S REPUBLIC OF
| * * * * * *
| Beijing Keyi Hongyuan Optoelectronics Co., Ltd., a.k.a., the following three aliases: —RSLaser; —Beijing RSLaser Photoelectric Technology; and —Beijing RSLaser Opto-Electronics. No. 19, Rongxing North 1st Street, Daxing District, Beijing, China. | For all items subject to the EAR (See § 744.11 of the EAR) | Presumption of denial | 90 FR [INSERT FR PAGE NUMBER] January 16, 2025.
| * * * * * *
| Beijing Lingxin Intelligent Technology Co., Ltd., 7th Floor, Building 9, No. 1, Zhongguancun East Road, Haidian District, Beijing, China; and Room 4-1106, 11th Floor, No. 28 Chengfu Road, Haidian District, Beijing, China. | For all items subject to the EAR. (See § 744.11 of the EAR) | Presumption of denial | 90 FR [INSERT FR PAGE NUMBER] January 16, 2025.
| * * * * * *
| Beijing Yuanyin Intelligent Technology Co., Ltd., Room 07-128, 101, 7th Floor, No. 219 Wangfujing Street, Dongcheng District, Beijing, China; and Room 801, 8th Floor, Building 9, No. 1, Zhongguancun East Road, Haidian District, Beijing, China. | For all items subject to the EAR. (See § 744.11 of the EAR) | Presumption of denial | 90 FR [INSERT FR PAGE NUMBER] January 16, 2025.
| * * * * * *
| Beijing Zhipu Future Technology Co., Ltd., Room 801, 8th Floor, Building 9, No. 1, Zhongguancun East Road, Haidian District, Beijing, China. | For all items subject to the EAR. (See § 744.11 of the EAR) | Presumption of denial | 90 FR [INSERT FR PAGE NUMBER] January 16, 2025.
| Beijing Zhipu Huazhang Technology Co., Ltd., a.k.a., the following two aliases: —Zhipu AI; and —Beijing Knowledge Atlas Technology Co., Ltd. Floor 10, Building 9, No. 1, Zhongguancun East Road, Haidian District, Beijing, 100080, China. | For all items subject to the EAR. (See § 744.11 of the EAR) | Presumption of denial | 90 FR [INSERT FR PAGE NUMBER] January 16, 2025.
| Beijing Zhipu Linghang Technology Co., Ltd., Room 306-4, 3rd Floor, Building 6, No. 10 Kegu 1st Street, Beijing Economic and Technological Development Zone, Beijing, China. | For all items subject to the EAR. (See § 744.11 of the EAR) | Presumption of denial | 90 FR [INSERT FR PAGE NUMBER] January 16, 2025.
| Beijing Zhipu Qingyan Technology Co., Ltd., Room 202, 2nd Floor, Building 13, No. 98 Lianshihu West Road, Mentougou District, Beijing, China. | For all items subject to the EAR. (See § 744.11 of the EAR) | Presumption of denial | 90 FR [INSERT FR PAGE NUMBER] January 16, 2025.
| * * * * * * *
| Hangzhou Zhipu Huazhang Technology Co., Ltd., Room 551, No. 857, 859, Shixin North Road, Yingfeng Street, Xiaoshan District, Hangzhou, Zhejiang Province, China. | For all items subject to the EAR. (See § 744.11 of the EAR) | Presumption of denial | 90 FR [INSERT FR PAGE NUMBER] January 16, 2025.
| * * * * * * *
| Nanjing Zhihu Information Technology Co., Ltd., Room 605, South Building (Block E), Phase II, Dingye Baitai Biological Building, No. 10 Xinghuo Road, Jiangbei New District, Nanjing, Jiangsu Province, China; and Room 412, Main Building, Zhixin Technology Building, No. 15 Xinghuo Road, Jiangbei New District, Nanjing, Jiangsu Province, China. | For all items subject to the EAR. (See § 744.11 of the EAR) | Presumption of denial | 90 FR [INSERT FR PAGE NUMBER] January 16, 2025.
| * * * * * * *
| Shanghai Zhipu Huanyu Technology Co., Ltd., 3rd Floor, Building 1, No. 400, Fangchun Road, China (Shanghai) Pilot Free Trade Zone, Shanghai, China. | For all items subject to the EAR. (See § 744.11 of the EAR) | Presumption of denial | 90 FR [INSERT FR PAGE NUMBER] January 16, 2025.
| * * * * * * *
| Shenzhen Zhipu Future Technology Co., Ltd., Building A701, Vanke Cloud City Phase 6, Dashi 2nd Road, Xili Community, Xili Street, Nanshan District, Shenzhen, Guangdong Province, China; and C1202, Building 2, Shenzhen Software Industry Base, No. 87, 89, and 91, Gaoxin South 10th Road, Nanshan District, Shenzhen, Guangdong Province, China. | For all items subject to the EAR. (See § 744.11 of the EAR) | Presumption of denial | 90 FR [INSERT FR PAGE NUMBER] January 16, 2025.
| * * * * * *
* * * * * * *
INDIA
| * * * * * *
| The following Department of Atomic Energy facilities: —Nuclear reactors (including power plants) not under International Atomic Energy Agency (IAEA) safeguards, (excluding Kundankulam 1 and 2); —Fuel reprocessing and enrichment facilities; and —Heavy water production facilities and their collocated ammonia plants. | For all items subject to the EAR | Case-by-case for all items listed on the CCL. Presumption of approval for EAR99 items. See § 744.2(d) of the EAR | 63 FR 64322, 11/19/98 65 FR 14444, 3/17/00 66 FR 50090, 10/1/01 69 FR 56694, 9/22/04. 90 FR [INSERT FR PAGE NUMBER] January 16, 2025.
| * * * * * *
* * * * * * *

* * * * *

Matthew S. Borman,
Principal Deputy Assistant Secretary for Strategic Trade and Technology Security.

[FR Doc. 2025-00704 Filed 1-15-25; 8:45 am]

BILLING CODE 3510-33-P